ENVIRONMENTAL PROTECTION AGENCY

[FRL-8492-8]

Meeting of the Mid-Atlantic/Northeast Visibility Union (MANE-VU) Stakeholder Briefing

AGENCY: Environmental Protection Agency.

ACTION: Notice of meeting.

SUMMARY: The United States Environmental Protection Agency (EPA) is announcing the Stakeholder Briefing of the Mid-Atlantic/Northeast Visibility Union (MANE-VU). This meeting will deal with matters relative to Regional Haze and visibility improvement in Federal Class I areas within MANE-VU.

DATES: The meeting will be held on November 15, 2007 starting at 8:30 a.m. (EST).

Location: Hyatt Regency Crystal City, 2799 Jefferson Davis Highway, Arlington, Virginia 22202.

FOR FURTHER INFORMATION CONTACT: For questions regarding Meeting Specifics, Documents and Press Inquiries Contact: Kromeklia Bryant, Ozone Transport Commission, 444 North Capitol Street, NW., Suite 638, Washington, DC 20001; (202) 508-3840; e-mail: ozone@otcair.org; Web site: http://www.manevu.org.

SUPPLEMENTARY INFORMATION: The Mid-Atlantic/Northeast Visibility Union (MANE-VU) was formed at in 2001, in response to EPA's issuance of the Regional Haze rule. MANE-VU's members include: Connecticut, Delaware, the District of Columbia, Maine, Maryland, Massachusetts, New Hampshire, New Jersey, New York, Pennsylvania, Rhode Island, Vermont, the Penobscot Indian Nation, the St. Regis Mohawk Tribe along with EPA and Federal Land Managers.

Type of Meeting: This meeting will be open to the public.

Agenda: Copies of the final agenda are available from the OTC office (202) 508-3840; by e-mail: ozone@otcair.org or via the MANE-VU Web site at http://www.manevu.org.

Dated: October 26, 2007.
Donald S. Welsh,
Regional Administrator, Region III.

[FR Doc. E7-21851 Filed 11-6-07; 8:45 am]

BILLING CODE 6560-50-P